INTERNATIONAL TRADE COMMISSION

[Investigation Nos. 701-TA-643 and 731-TA-1493 (Final)]

Small Vertical Shaft Engines From China

Determinations

On the basis of the record ¹ developed in the subject investigations, the United States International Trade Commission (“Commission”) determines, pursuant to the Tariff Act of 1930 (“the Act”), that an industry in the United States is materially injured by reason of imports of small vertical shaft engines from China, provided for in subheadings 8407.90.10, 8407.90.90, 8409.91.99, 8424.30.90, and 8433.11.00 of the Harmonized Tariff Schedule of the United States, that have been found by the U.S. Department of Commerce (“Commerce”) to be sold in the United States at less than fair value (“LTFV”), and to be subsidized by the government of China.²

¹ The record is defined in § 207.2(f) of the Commission's Rules of Practice and Procedure (19 CFR 207.2(f)).

² The Commission also finds that imports subject to Commerce's affirmative critical circumstances determinations in the antidumping and countervailing duty investigations are likely to undermine seriously the remedial effect of the antidumping and countervailing duty orders on small vertical shaft engines from China. As a result, certain imports from China will be subject to retroactive countervailing and/or antidumping duties. Commissioner David S. Johanson makes negative critical circumstances determinations in the antidumping and countervailing duty investigations.

Background

The Commission instituted these investigations effective March 18, 2020, following receipt of petitions filed with the Commission and Commerce by Briggs & Stratton Corporation, Wauwatosa, Wisconsin. The final phase of the investigations was scheduled by the Commission following notification of preliminary determinations by Commerce that imports of small vertical shaft engines from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 27, 2020 (85 FR 76103). In light of the restrictions on access to the Commission building due to the COVID-19 pandemic, the Commission conducted its hearing through written testimony and video conference on March 9, 2021. All persons who requested the opportunity were permitted to participate.

The Commission made these determinations pursuant to §§ 705(b) and 735(b) of the Act (19 U.S.C. 1671d(b) and 19 U.S.C. 1673d(b)). It completed and filed its determinations in these investigations on April 26, 2021. The views of the Commission are contained in USITC Publication 5185 (April 2021), entitled Small Vertical Shaft Engines from China: Investigation Nos. 701-TA-643 and 731-TA-1493 (Final).

By order of the Commission.
Issued: April 26, 2021.
William Bishop,
Supervisory Hearings and Information Officer.

[FR Doc. 2021-09004 Filed 4-29-21; 8:45 am]

BILLING CODE 7020-02-P